DEPARTMENT OF AGRICULTURE

Rural Utilities Service

7 CFR Part 1703

RIN 0572-AB70

Distance Learning and Telemedicine Loan and Grant Program

AGENCY: Rural Utilities Service, USDA.

ACTION: Notice of confirmation of direct final rule.

SUMMARY: The Rural Utilities Service (RUS) hereby gives notice that no adverse comments were received regarding the direct final rule amending its regulations for the Distance Learning and Telemedicine (DLT) Loan and Grant Program, and confirms the effective date of the direct final rule.

DATES: The direct final rule published in the Federal Register on January 23, 2002 (67 FR 3039) is effective March 11, 2002.

FOR FURTHER INFORMATION CONTACT: Marilyn J. Morgan, Chief DLT Branch, Advanced Services Division, Rural Utilities Service, U.S. Department of Agriculture, 1400 Independence Ave., SW., STOP 1550, Washington, DC 20250-1550. Telephone: 202-720-0413; e-mail at mmorgan@rus.usda.gov; or, Fax: 202-720-1051.

SUPPLEMENTARY INFORMATION:

Background

RUS is amending 7 CFR part 1703, subparts D, E, F, and G of its regulations for the Distance Learning and Telemedicine (DLT) Loan and Grant Program. The current regulations implement the provisions of the Federal Agriculture Improvement and Reform Act of 1996 (7 U.S.C. 950aaa et seq.) to encourage and improve telemedicine services and distance learning services in rural areas. The direct final rule addresses the amendments affecting the grant program. These amendments will clarify eligibility; change the grant minimum matching contribution; clarify that only loan funds will be used to finance transmission facilities; modify financial information requirements; adjust the leveraging of resources scoring criterion; revise financial information to be submitted; and make other minor changes and corrections.

Confirmation of Effective Date

This is to confirm the effective date of March 11, 2002, for the direct final rule, 7 CFR part 1703, Distance Learning and Telemedicine Loan and Grant Program, published in the Federal Register on January 23, 2002.

Dated: March 4, 2002.
Hilda Gay Legg,
Administrator, Rural Utilities Service.

[FR Doc. 02-5733 Filed 3-8-02; 8:45 am]

BILLING CODE 3415-15-P